DEPARTMENT OF COMMERCE

International Trade Administration

[A-533-810]

Stainless Steel Bar From India; Final Results of Antidumping Duty Administrative Review

AGENCY: Import Administration, International Trade Administration, Department of Commerce.

ACTION: Notice of final results of antidumping administrative review.

SUMMARY: The Department of Commerce has conducted an administrative review of the antidumping duty order on stainless steel bar from India. This review covers sales of stainless steel bar to the United States by Panchmahal Steel Limited. We have determined that sales have been made below normal value during the review period of February 1, 1999, through January 31, 2000.

We gave interested parties an opportunity to comment on the preliminary results. Based upon our analysis of the comments received, we have not made any changes in the margin calculation presented in the preliminary results of review. The final weighted-average dumping margin for the company under review is listed below in the section entitled, “Final Results of Review.”

EFFECTIVE DATE: June 11, 2001.

FOR FURTHER INFORMATION CONTACT: Blanche Ziv or Annika O'Hara, Office 1, AD/CVD Enforcement, Import Administration, International Trade Administration, U.S. Department of Commerce, 14th Street and Constitution Avenue, NW., Washington DC 20230; telephone (202) 482-4207 or (202) 482-3798, respectively.

SUPPLEMENTARY INFORMATION:

Applicable Statute

Unless otherwise indicated, all citations to the statute are references to the provisions of the Tariff Act of 1930, as amended (“the Act”), effective January 1, 1995, the effective date of the amendments made to the Act by the Uruguay Round Agreements Act (“URAA”). In addition, unless otherwise indicated, all citations to the Department of Commerce's (“the Department”) regulations are to 19 CFR Part 351 (April 1999).

Background

On February 5, 2001, the Department published Stainless Steel Bar From India; Preliminary Results of Antidumping Administrative Review and Partial Rescission of Administrative Review, 66 FR 8939 (February 5, 2001) (“Preliminary Results”), and invited parties to comment on these results. Since the Preliminary Results, the following events have occurred.

On March 7, 2001, the respondent, Panchmahal Steel Limited (“Panchmahal”) submitted a case brief. The petitioners ¹ submitted a rebuttal brief on March 19, 2001.

¹ A1 Tech Specialty Steel Corp., Carpenter Technology Corp., Crucible Specialty Metals division, Crucible Materials Corp., Electroalloy Corp., Republic Engineered Steels, Slater Steels Corp., Talley Metals Technology, Inc. and the United Steelworkers of America (AFL-CIO/CLC).

On April 26, 2001, the Department issued a memorandum addressing certain allegations regarding our verification in the respondent's case brief (see “Panchmahal Steel Limited's Verification Allegations,” (April 26, 2001) from Blanche Ziv to Susan Kuhbach which is on file in the Central Records Unit (“CRU”) in Room B-099 of the Department) (“Verification Allegations Memo”). We invited parties to comment on the information presented in the memorandum. We received no comments.

The Department has conducted this administrative review in accordance with section 751 of the Act. The period of review (“POR”) is February 1, 1999, through January 31, 2000.

Scope of the Order

Imports covered by the order are shipments of stainless steel bar (“SSB”). SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The SSB subject to the order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of the order is dispositive.

Use of Facts Otherwise Available

Section 776(a) of the Act provides that the Department shall apply “facts otherwise available” if, inter alia, a respondent:

(1) withholds information that has been requested;

(2) fails to provide information within the deadlines established, or in the form or manner requested by the Department, subject to subsections (c)(1) and (e) of Section 782;

(3) significantly impedes a proceeding; or

(4) provides information that cannot be verified.

Section 782(e) of the Act provides further that the Department shall not decline to consider information that is submitted by an interested party and that is necessary to the determination but does not meet all the applicable requirements established by the Department if—

(1) the information is submitted by the deadline established for its submission;

(2) the information can be verified;

(3) the information is not so incomplete that it cannot serve as a reliable basis for reaching the applicable determination;

(4) the interested party has demonstrated that it acted to the best of its ability in providing the information and meeting the requirements established by the Department with respect to the information; and

(5) the information can be used without undue difficulties.

Thus, if any one of these criteria is not met, the Department may decline to consider the information at issue in making its determination.

We continue to find that the use of facts available is necessary in this review for the reasons stated in the Preliminary Results (66 FR 8940), in the January 29, 2001 memorandum, “Application of Adverse Facts Available for Panchmahal Steel Ltd.” from Team to Susan Kuhbach which is on file in the CRU (“Application of Adverse Facts Available Memo”), and in the accompanying memorandum, “Issues and Decision Memo for the Final Results of the Administrative Review of Stainless Steel Bar from India” from Richard W. Moreland to Faryar Shirzad (“Decision Memorandum”).

As noted in the Preliminary Results, (1) Panchamahal failed to report certain home market sales; (2) Panchmahal's failure to prepare for verification impeded the verification process and resulted in many items not being verified; and (3) Absence of company officials impeded the Department's ability to conduct a complete sales and cost of production verification.

For the reasons stated above, we find that Panchmahal's sales and cost information is substantially unverified and cannot serve as a reliable basis for calculating export price or normal value. Therefore, in accordance with section 776(a)(2) of the Act, we find that the use of facts otherwise available is warranted because Panchmahal withheld information requested by the Department, Panchmahal significantly impeded this proceeding, and Panchmahal's reported sales and cost information was unverifiable. Furthermore, for the reasons stated in the Preliminary Results (66 FR 8940, 8941), we also find that Panchmahal's sales and costs information does not meet the standards for consideration of information outlined in section 782(e) of the Act.

In determining the appropriate facts available to assign to Panchmahal, in accordance with section 776(b) of the Act, we find that Panchmahal failed to cooperate by not acting to the best of its ability to comply with requests for information throughout this administrative review (see Application of Adverse Facts Available Memo). Therefore, we determine that an adverse inference is warranted in selecting facts otherwise available.

As adverse facts available, we have assigned a margin of 19.54 percent to Panchmahal. This margin was calculated for Ferro Alloys Corporation Limited (“Facor”) during the 1998-1999 administrative review and represents the highest calculated weighted-average margin determined for any firm during any segment of this proceeding (see Stainless Steel Bar from India; Final Results of Antidumping Duty Administrative Review and Partial Rescission of Administrative Review, 65 FR 48965, 48968 (August 10, 2000) (“Final 1998-1999 Review”)).

Information from prior segments of the proceeding constitutes secondary information and section 776(c) of the Act provides that the Department shall, to the extent practicable, corroborate that secondary information from independent sources reasonably at its disposal. The Statement of Administrative Action provides that “corroborate” means that the Department will satisfy itself that the secondary information to be used has probative value (see The Statement of Administrative Action, H. Doc. No. 103-316, Vol. 1 at 870 (1994) (“SAA”)).

To corroborate secondary information, the Department will, to the extent practicable, examine the reliability and relevance of the information to be used. However, unlike other types of information, such as input costs or selling expenses, there are no independent sources for calculated dumping margins. Thus, in an administrative review, if the Department chooses as adverse facts available a calculated dumping margin from a prior segment of the proceeding, it is not necessary to question the reliability of the margin for that time period. With respect to the relevance aspect of corroboration, however, the Department will consider information reasonably at its disposal as to whether there are circumstances that would render a margin inappropriate. Where circumstances indicate that the selected margin is not appropriate as adverse facts available, the Department will disregard the margin and determine an appropriate margin (see, e.g., Fresh Cut Flowers from Mexico; Final Results of Antidumping Duty Administrative Review, 61 FR 6812, 6814 (February 22, 1996) (where the Department disregarded the highest margin as adverse facts available because the margin was based on another company's uncharacteristic business expense resulting in an unusually high margin)).

The highest calculated margin in the history of this proceeding is 19.54 percent (see Final 1998-1999 Review). In this review, there are no circumstances indicating that this margin is inappropriate as facts available. There are no calculated margins for any other respondents in this administrative review. Therefore, for the reasons stated above, we find that the 19.54 percent rate is corroborated to the greatest extent practicable in accordance with section 776(c) of the Act.

Analysis of Comments Received

All issues raised in the case and rebuttal briefs by parties to this administrative review are addressed in the Decision Memorandum, which is hereby adopted by this notice. A list of the issues which parties have raised and to which we have responded, all of which are in the Decision Memorandum, is attached to this notice as an appendix. Parties can find a complete discussion of all issues raised in this review and the corresponding recommendations in this public memorandum, which is on file in the CRU. In addition, a complete version of the Decision Memorandum can be accessed directly on the Web at http://ia.ita.doc.gov. The paper copy and electronic version of the Decision Memorandum are identical in content.

Final Results of the Review

We determine the following weighted-average dumping margin exists for the period February 1, 1999, through January 31, 2000:

Manufacturer/exporter | Margin (percent)
Panchmahal Steel Limited | 19.54

Assessment Rates

The Department will issue appraisement instructions directly to the Customs Service to assess antidumping duties on appropriate entries by applying the assessment rate to the entered value of the merchandise.

Cash Deposit Rates

The following deposit requirements will be required on all shipments of stainless steel bar from India entered, or withdrawn from warehouse, for consumption, effective on or after the publication date of the final results of this administrative review, as provided by section 751(a)(1) of the Act: (1) The cash deposit rate for the reviewed company will be the rate indicated above; (2) for merchandise exported by manufacturers or exporters not covered in this review but covered in the original less-than-fair-value investigation or a previous review, the cash deposit will continue to be the most recent rate published in the final determination or final results for which the manufacturer or exporter received an individual rate; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 12.45 percent, the “all others” rate established in the less-than-fair-value investigation (see Stainless Steel Bar from India; Final Determination of Sales at Less Than Fair Value, 59 FR 66915 (December 28, 1994)).

These cash deposit requirements, when imposed, shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections section 751(a)(1) and 777(i)(1) of the Act.

Dated: June 6, 2001.
Faryar Shirzad,
Assistant Secretary for Import Administration.

Appendix

List of Comments and Issues in the Decision Memorandum

Comment 1: Home Market Sales of Bright Bar

Comment 2: Preparation and Availability of Information

Comment 3: Availability of Company Staff During Verification

Comment 4: Timing of Verification

Comment 5: Use of Adverse Facts Available

Comment 6: Other Factual Allegations

[FR Doc. 01-14649 Filed 6-8-01; 8:45 am]

BILLING CODE 3510-DS-P